DEPARTMENT OF COMMERCE

Bureau of Industry and Security

Order Denying Export Privileges

In the Matter of:Arash Sepehri, a/k/a William Anderson, a/k/a Aresh Sepheri Eshtajran, Unit 7, Yazdanpanah Street, Tehran, Iran.

On February 26, 2019, in the U.S. District Court for the District of Columbia, Arash Sepehri, a/k/a William Anderson, a/k/a Aresh Sepheri Eshtajran (“Sepehri”), was convicted of violating 18 U.S.C. 371. Specifically, Sepehri was convicted of knowingly and willfully conspiring to export U.S.-origin items, including high-resolution sonar equipment, data input boards, acoustic transducers and rugged laptops, from the United States to Iran without the required licenses from the U.S. Government. Sepehri was sentenced to twenty-five (25) months in prison, with credit for time served, and a $100 special assessment.

Pursuant to Section 1760(e) of the Export Control Reform Act (“ECRA”),² the export privileges of any person who has been convicted of certain offenses, including, but not limited to, 18 U.S.C. 371, may be denied for a period of up to ten (10) years from the date of his/her conviction. 50 U.S.C. 4819(e) (Prior Convictions). In addition, any BIS licenses or other authorizations issued under ECRA in which the person had an interest at the time of the conviction may be revoked. Id.

² ECRA was enacted as part of the John S. McCain National Defense Authorization Act for Fiscal Year 2019, and as amended is codified at 50 U.S.C. 4801-4852. Sepehri's conviction post-dates Section 1760(e)'s enactment on August 13, 2018.

BIS has received notice of Sepehri's conviction for violating 18 U.S.C. 371, and has provided notice and an opportunity for Sepehri to make a written submission to BIS, as provided in Section 766.25 of the Export Administration Regulations (“EAR” or the “Regulations”). 15 CFR 766.25.³ BIS has not received a submission from Sepehri.

³ The Regulations are currently codified in the Code of Federal Regulations at 15 CFR Parts 730-774 (2019). The Regulations originally issued under the Export Administration Act of 1979, as amended, 50 U.S.C. 4601-4623 (Supp. III 2015) (“EAA”), which lapsed on August 21, 2001. The President, through Executive Order 13,222 of August 17, 2001 (3 CFR, 2001 Comp. 783 (2002)), which was extended by successive Presidential Notices, including the Notice of August 8, 2018 (83 FR 39,871 (Aug. 13, 2018)), continued the Regulations in full force and effect under the International Emergency Economic Powers Act, 50 U.S.C. 1701, et seq. (2012) (“IEEPA”). Section 1768 of ECRA, 50 U.S.C. 4826, provides in pertinent part that all rules and regulations that were made or issued under the EAA, including as continued in effect pursuant to IEEPA, and were in effect as of ECRA's date of enactment (August 13, 2018), shall continue in effect according to their terms until modified, superseded, set aside, or revoked through action undertaken pursuant to the authority provided under ECRA. See note 1, supra.

Based upon my review and consultations with BIS's Office of Export Enforcement, including its Director, and the facts available to BIS, I have decided to deny Sepehri's export privileges pursuant to ECRA for a period of seven years from the date of Sepehri's conviction. I have also decided to revoke any BIS license issued under ECRA in which Sepehri had an interest at the time of his conviction.

Accordingly, it is hereby ordered:

First, from the date of this Order until February 26, 2026, Arash Sepehri,a/k/a William Anderson, a/k/a Aresh Sepheri Eshtajran, with a last known address of Unit 7, Yazdanpanah Street, Tehran, Iran, and when acting for or on his behalf, his successors, assigns, employees, agents or representatives (“the Denied Person”), may not directly or indirectly participate in any way in any transaction involving any commodity, software or technology (hereinafter collectively referred to as “item”) exported or to be exported from the United States that is subject to the Regulations, including, but not limited to:

A. Applying for, obtaining, or using any license, license exception, or export control document;

B. Carrying on negotiations concerning, or ordering, buying, receiving, using, selling, delivering, storing, disposing of, forwarding, transporting, financing, or otherwise servicing in any way, any transaction involving any item exported or to be exported from the United States that is subject to the Regulations, or engaging in any other activity subject to the Regulations; or

C. Benefitting in any way from any transaction involving any item exported or to be exported from the United States that is subject to the Regulations, or from any other activity subject to the Regulations.

Second, no person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, pursuant to Setion 1760(e) of ECRA and Sections 766.23 and 766.25 of the Regulations, any other person, firm, corporation, or business organization related to Sepehri by ownership, control, position of responsibility, affiliation, or other connection in the conduct of trade or business may also be made subject to the provisions of this Order in order to prevent evasion of this Order.

Fourth, in accordance with Part 756 of the Regulations, Sepehri may file an appeal of this Order with the Under Secretary of Commerce for Industry and Security. The appeal must be filed within 45 days from the date of this Order and must comply with the provisions of Part 756 of the Regulations.

Fifth, a copy of this Order shall be delivered to Sepehri and shall be published in the Federal Register.

Sixth, this Order is effective immediately and shall remain in effect until February 26, 2026.

Issued this 30th day of September, 2019.
Karen H. Nies-Vogel,
Director, Office of Exporter Services.

[FR Doc. 2019-21748 Filed 10-4-19; 8:45 am]

BILLING CODE P